FEDERAL MARITIME COMMISSION

Ocean Transportation Intermediary License Applicants

Notice is hereby given that the following applicants have been filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicant should not receive a license are requested to contact the Office of Transportation Intermediaries, Federal Maritime Commission, Washington, DC 20573.

Non-Vessel Operating Common Carrier Ocean Transportation Intermediary Applicants:

T. Parker Host, Inc.

World Trade Center, Suite 820, Norfolk, VA 23510. Officers: David F. Host, Exec. Vice President (Qualifying Individual) T. Parker Host, Jr., Chairman.

Four Link International, Inc.

184-45 147th Avenue, Springfield Garden, NY 11413. Officers: Ji Hoon Cho, Vice President (Qualifying Individual) Kwangsang Yoon, President.

JBA Transport & Logistics, Inc.

Carr, Estatal #44 KM 1.1 Bo Machete #7, Guayama, PR 00785. Officers: Augie Berastain, President (Qualifying Individual) Betsie E. Giro, Vice President.

Dated: November 16, 2001.
Bryant L. VanBrakle,
Secretary.

[FR Doc. 01-29135 Filed 11-20-01; 8:45 am]

BILLING CODE 6730-01-P